DEPARTMENT OF ENERGY

Federal Energy Regulatory Commission

Combined Notice of Filings #2

Take notice that the Commission received the following electric corporate filings:

Docket Numbers: EC12-105-000.

Applicants: Eurus Combine Hills I LLC, Oasis Power Partners, LLC, Crescent Ridge LLC, Eurus Combine Hills II LLC, Avenal Park LLC, Sand Drag LLC, Sun City Project LLC, Crescent Ridge LLC, Sagebrush.

Description: Application for Authorization of Transaction Pursuant to Section 203 of the Federal Power Act and Request for Expedited Consideration and Waivers of Eurus Combine Hills I LLC, et al.

Filed Date: 5/25/12.

Accession Number: 20120525-5101.

Comments Due: 5 p.m. ET 6/15/12.

Take notice that the Commission received the following electric rate filings:

Docket Numbers: ER12-1847-000.

Applicants: ISO New England Inc., New England Power Pool Participants Committee.

Description: ISO New England Inc. submits tariff filing per 35.13(a)(2)(iii: Clean-Up to Inter. Procedures Under Sch. 22-23 of ISO OATT to be effective 7/25/2012.

Filed Date: 5/25/12.

Accession Number: 20120525-5063.

Comments Due: 5 p.m. ET 6/15/12.

Docket Numbers: ER12-1848-000.

Applicants: High Trail Wind Farm, LLC.

Description: High Trail Wind Farm, LLC submits tariff filing per 35: High Trail Wind Farm First Revised MBR to be effective 5/26/2012.

Filed Date: 5/25/12.

Accession Number: 20120525-5072.

Comments Due: 5 p.m. ET 6/15/12.

Docket Numbers: ER12-1849-000.

Applicants: Southwest Power Pool, Inc.

Description: Southwest Power Pool, Inc. submits tariff filing per 35.13(a)(2)(iii: Revisions to Attachment AD-SWPA 2012 Agreement to be effective 5/1/2012.

Filed Date: 5/25/12.

Accession Number: 20120525-5073.

Comments Due: 5 p.m. ET 6/15/12.

Docket Numbers: ER12-1850-000.

Applicants: Old Trail Wind Farm, LLC.

Description: Old Trail Wind Farm, LLC submits tariff filing per 35: Old Trail Wind Farm First Revised MBR to be effective 5/26/2012.

Filed Date: 5/25/12.

Accession Number: 20120525-5078.

Comments Due: 5 p.m. ET 6/15/12.

Docket Numbers: ER12-1851-000.

Applicants: PPL Electric Utilities Corporation.

Description: PPL Electric Utilities Corporation Notice of Cancellation Rate Schedule No. 112 and Service Agreement No. 596.

Filed Date: 5/24/12.

Accession Number: 20120524-5202.

Comments Due: 5 p.m. ET 6/14/12.

Docket Numbers: ER12-1852-000.

Applicants: ArcLight Energy Marketing, LLC.

Description: ArcLight Energy Marketing, LLC submits tariff filing per 35.13(a)(2)(iii: AEM First Revised MBR to be effective 6/1/2012.

Filed Date: 5/25/12.

Accession Number: 20120525-5088.

Comments Due: 5 p.m. ET 6/15/12.

Docket Numbers: ER12-1853-000.

Applicants: Black Bear Hydro Partners, LLC.

Description: Black Bear Hydro Partners, LLC submits tariff filing per 35.13(a)(2)(iii: Black Bear Hydro First Revised MBR to be effective 6/1/2012.

Filed Date: 5/25/12.

Accession Number: 20120525-5098.

Comments Due: 5 p.m. ET 6/15/12.

Docket Numbers: ER12-1854-000.

Applicants: Southwest Power Pool, Inc.

Description: Southwest Power Pool, Inc.'s Notice of Cancellation.

Filed Date: 5/24/12.

Accession Number: 20120524-5205

Comments Due: 5 p.m. ET 6/14/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2012.
Nathaniel J. Davis, Sr.,
Deputy Secretary.

[FR Doc. 2012-13550 Filed 6-4-12; 8:45 am]

BILLING CODE 6717-01-P